DEPARTMENT OF THE TREASURY

Internal Revenue Service

Advisory Committee to the Internal Revenue Service; Meeting

AGENCY: Internal Revenue Service (IRS), Treasury.

ACTION: Notice.

SUMMARY: The Information Reporting Program Advisory Committee (IRPAC) will hold an open meeting on Wednesday, April 30, 2008.

FOR FURTHER INFORMATION CONTACT: Ms. Caryl Grant, National Public Liaison, CL:NPL:SRM, Rm. 7566, 1111 Constitution Avenue, NW., Washington, DC 20224. Telephone: 202-927-3641 (not a toll-free number). E-mail address: *public_liaison@irs.gov.

SUPPLEMENTARY INFORMATION: Notice is hereby given pursuant to section 10(a)(2) of the Federal Advisory Committee Act, 5 U.S.C. App. (1988), an open meeting of the IRPAC will be held on Wednesday, April 30, 2008 from 9 a.m. to 10 a.m. in Room 3313. The agenda will include recommendations for the Office of Professional Responsibility. Last minute agenda changes may preclude advance notice. Due to limited seating and security requirements, please call or e-mail Caryl Grant to confirm your attendance. Ms. Grant can be reached at 202-927-3641 or e-mail at *public_liaison@irs.gov. Attendees are encouraged to arrive at least 30 minutes before the meeting begins to allow sufficient time for purposes of security clearance. Should you wish the IRPAC to consider a written statement, please call 202-927-3641, or write to: Internal Revenue Service, Office of National Public Liaison, CL:NPL:SRM, Rm. 7566, 1111 Constitution Avenue, NW., Washington, DC 20224 or e-mail: *public_liaison@irs.gov.

Dated: April 7, 2008.
Cynthia Vanderpool,
Branch Chief, National Public Liaison.

[FR Doc. E8-8074 Filed 4-14-08; 8:45 am]

BILLING CODE 4830-01-P